DEPARTMENT OF STATE

22 CFR Part 42

[Public Notice: 12462]

RIN 1400-AF53

Visas: Immigrant Visas; Correction

AGENCY: Department of State.

ACTION: Correcting amendment.

SUMMARY: The Department of State (the Department) is correcting a regulation that was amended by a final rule published in the Federal Register on July 14, 2023. This final rule made a typographical error in the immigrant visa classification symbols and incorrectly listed the IB1 classification for “Self-petition Spouse of U.S. Citizen” as “IBI” rather than “IB1.” This mistake could cause confusion.

DATES: Effective on July 26, 2024.

FOR FURTHER INFORMATION CONTACT: Jami Thompson, Senior Regulatory Coordinator, Visa Services, Bureau of Consular Affairs, 600 19th St. NW, Washington, DC 20522, (202) 485-7586, VisaRegs@state.gov.

SUPPLEMENTARY INFORMATION: In FR Doc. 2023-14538, at 88 FR 45072 in the Federal Register of Friday, July 14, 2023, in table 1 to § 42.11, the symbol for the class “Self-petition Spouse of U.S. Citizen” is changed from “IBI” to “IB1.”

List of Subjects in 22 CFR Part 42

Administrative practice and procedure, Aliens, Fees, Foreign officials, Immigration passports and visas.

Accordingly, 22 CFR part 42 is corrected by making the following correcting amendment:

PART 42—VISAS: DOCUMENTATION OF IMMIGRANTS UNDER THE IMMIGRATION AND NATIONALITY ACT, AS AMENDED

1. The authority citation for part 42 continues to read as follows:

Authority: 8 U.S.C. 1104 and 1182; Pub. L. 105-277, 112 Stat. 2681; Pub. L. 108-449, 118 Stat. 3469; The Convention on Protection of Children and Co-operation in Respect of Intercountry Adoption (done at the Hague, May 29, 1993), S. Treaty Doc. 105-51 (1998), 1870 U.N.T.S. 167 (Reg. No. 31922 (1993)); 42 U.S.C. 14901-14954 (Pub. L. 106-279, 114 Stat. 825); 8 U.S.C. 1101 (Pub L. 117-31, 135 Stat. 309); 8 U.S.C. 1154 (Pub. L. 109-162, 119 Stat. 2960); 8 U.S.C. 1201 (Pub. L. 114-70, 129 Stat. 561).

2. In § 42.11, in table 1, remove the entry “IBI” and add the entry “IB1” in its place to read as follows:

§ 42.11 Classification symbols.

* * * * *

Table 1 to § 42.11
Symbol | Class | Section of law
* * * * *
IB1 | Self-petition Spouse of U.S. Citizen | INA 204(a)(1)(A)(iii).
* * * * *

Julie M. Stufft,
Deputy Assistant Secretary for Visa Services, Consular Affairs, Department of State.

[FR Doc. 2024-16452 Filed 7-25-24; 8:45 am]

BILLING CODE 4710-06-P